DEPARTMENT OF TRANSPORTATION

Federal Aviation Administration

14 CFR Part 71

[Docket No. FAA-2016-9556; Airspace Docket No. 16-AEA-2]

RIN 2120-AA66

Proposed Establishment and Modification of Area Navigation Routes, Atlantic Coast Route Project; Northeastern United States.

AGENCY: Federal Aviation Administration (FAA), DOT.

ACTION: Notice of proposed rulemaking (NPRM).

SUMMARY: This action proposes to establish 12 high altitude area navigation (RNAV) routes (Q-routes), and modify one existing Q-route, in support of the Atlantic Coast Route Project (ACRP). The ACRP goal is to implement a Performance Based Navigation (PBN) route structure within the heavily traveled and constricted airspace along the Atlantic coast of the United States (U.S.)

DATES: Comments must be received on or before February 21, 2017.

ADDRESSES: Send comments on this proposal to the U.S. Department of Transportation, Docket Operations, 1200 New Jersey Avenue SE., West Building Ground Floor, Room W12-140, Washington, DC 20590; telephone: 1(800) 647-5527 or (202) 366-9826. You must identify FAA Docket No. FAA-2016-9556 and Airspace Docket No. 16-AEA-2 at the beginning of your comments. You may also submit comments through the Internet at http://www.regulations.gov. You may review the public docket containing the proposal, any comments received, and any final disposition in person in the Dockets Office between 9:00 a.m. and 5:00 p.m., Monday through Friday, except Federal holidays. The Docket Office (telephone: 1(800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it expands the availability of area navigation routes in the northeastern United States to enhance the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9556 and Airspace Docket No. 16-AEA-2) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2016-9556 and Airspace Docket No. 16-AEA-2.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the Internet at http://www.regulations.gov. Recently published rulemaking documents can also accessed through the FAA's Web page at http://www.faa.gov/air_Traffic/publications/airspace_amendments.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order 7400.11A, Airspace Designations and Reporting Points, dated August 3, 2016, and effective September 15, 2016. FAA Order 7400.11A is publicly available as listed in the ADDRESSES section of this proposed rule. FAA Order 7400.11A lists Class A, B, C, D, and E airspace areas, air traffic service routes, and reporting points.

Background

The Atlantic Coast Route Project (ACRP) is the first phase of FAA's plan to implement a PBN route structure across the U.S. It would consist primarily of North/South oriented, high-altitude RNAV routes (Q routes) extending from New England to Southern Florida and linking to the Caribbean. The eastern seaboard is an area containing heavily traveled and constricted airspace.

ACRP aims to couple the stakeholder desire for route flexibility with the route structure needed to support higher air traffic demand levels. As a continuation of FAA's commitment to streamline the National Airspace System (NAS) and realize the benefits of PBN advancements, ARCP seeks to establish a framework for the effective transition away from the less efficient jet route system that is constricted by the current ground-based navigation infrastructure.

The ACRP, itself, would be implemented in two phases. The first phase would establish routes primarily in airspace in the northeastern U.S. that is controlled by Boston Air Route Traffic Control Center (ARTCC) and New York ARTCC. Phase 2 would implement new routes from south of New York ARTCC's airspace to the Caribbean area through separate rulemaking action.

Key guidelines driving the scope of the ACRP effort include:

Reduce the overall route structure;

Reduce ATC facility sector complexity and controller workload;

Reduce flying miles; and

Maintain or improve ATC facility sector throughput.

The Proposal

The FAA is proposing an amendment to Title 14, Code of Federal Regulations (14 CFR) part 71 to establish 12 new Q-routes along the Atlantic Coast, in the northeastern U.S. The new routes, designated Q-75, Q-97, Q-167, Q-220, Q-411, Q-419, Q-430, Q-437, Q-439, Q-445, Q-450 and Q-479, would improve NAS efficiency and facilitate the transition from the current jet route system along the Atlantic Coast of the U.S. The proposed routes' end points are listed below. Full route descriptions are in “The Proposed Amendment” section of this notice.

Q-75: The route would extend between Greensboro, NC, and the Boston, MA, area.

Q-97: The route would extend between the HEADI, NJ WP, and the Qubis Canada WP just north of the Maine border.

Q-167: The route would extend between the YAZUU fix (off the coast of New Jersey) and the SSOXS fix south of Boston, MA.

Q-220: The route would extend between the RIFLE fix (south of Long Island, NY) and the LARIE WP over Cape Cod, MA.

Q-411: The route would extend between the Robbinsville, NJ, VORTAC and the FOXWD WP, CT.

Q-419: The route would extend between the Robbinsville, NJ, VORTAC and the Deer Park, NY VOR/DME.

Q-430: The route would extend between the COPES, PA, fix and the Nantucket, MA, VOR/DME.

Q-437: The route would extend between the VILLS, NJ, fix and the KOSPE, VT, fix.

Q-439: The route would extend between the BRIGS, NJ, fix and the Presque Isle, ME, VOR/DME.

Q-445: The route would extend between the BRIGS, NJ, fix and the KYSKY, NY, fix (south of Long Island, NY).

Q-450: The route would extend between the HNNAH, NJ, fix and the Deer Park, NY, VOR/DME.

Q-479: The route would extend between the LEEAH, NJ, fix and the PONCT, NY, WP.

In addition to adding the 12 new Q-Routes, the FAA proposes to amend existing route Q-480 by adding two new waypoints (WP), KYLOH, NH and BEEKN, ME, along the current route between the Barnes, MA, VORTAC and the Kennebunk, ME, VOR/DME. This would provide connectivity and facilitate transitions between Q-480 and the new routes Q-97 and Q-439.

RNAV routes are published in paragraph 2006 of FAA Order 7400.11A dated August 3, 2016, and effective September 15, 2016, which is incorporated by reference in 14 CFR 71.1. The RNAV routes listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 2006 United States Area Navigation Routes.

* * * * *

Q-75 Greensboro, NC (GSO) to COPLY, MA [New]
Greensboro, NC (GSO) | VORTAC | (Lat. 36°02′44.49″ N., long. 79°58′34.95″ W.)
DRAIK, VA | FIX | (Lat. 37°08′02.15″ N., long. 78°58′58.56″ W.)
Gordonsville, VA (GVE) | VORTAC | (Lat. 38°00′48.96″ N., long. 78°09′10.89″ W.)
BINKS, MD | FIX | (Lat. 39°03′07.04″ N., long. 77°01′47.57″ W.)
MURPH, MD | FIX | (Lat. 39°27′51.22″ N., long. 76°23′07.24″ W.)
SACRI, MD | FIX | (Lat. 39°36′07.34″ N., long. 76°10′24.70″ W.)
STOEN, PA | FIX | (Lat. 39°50′17.54″ N., long. 75°47′54.92″ W.)
Modena, PA (MXE) | VORTAC | (Lat. 39°55′05.00″ N., long. 75°40′14.91″ W.)
COPES, PA | FIX | (Lat. 40°07′50.58″ N., long. 75°22′36.37″ W.)
BIGGY, NJ | FIX | (Lat. 40°25′10.76″ N., long. 74°58′21.57″ W.)
Solberg, NJ (SBJ) | VOR/DME | (Lat. 40°34′58.96″ N., long. 74°44′30.46″ W.)
JERSY, NJ | FIX | (Lat. 40°47′28.99″ N., long. 74°23′58.00″ W.)
DUEYS, NY | FIX | (Lat. 41°09′09.46″ N., long. 73°47′48.52″ W.)
BIZEX, NY | WP | (Lat. 41°17′02.86″ N., long. 73°34′50.20″ W.)
GREKI, CT | FIX | (Lat. 41°28′48.03″ N., long. 73°18′50.98″ W.)
NELIE, CT | FIX | (Lat. 41°56′27.64″ N., long. 72°41′18.88″ W.)
SWALO, MA | FIX | (Lat. 42°03′55.75″ N., long. 72°11′37.10″ W.)
Boston, MA | VOR/DME | (Lat. 42°21′26.82″ N., long. 70°59′22.37″ W.)
COPLY, MA | WP | (Lat. 42°29′52.21″ N., long. 70°33′28.57″ W.)
Q-97 HEADI, NJ to QUIBIS, Canada [New]
HEADI, NJ | WP | (Lat. 39°57′49.56″ N., long. 73°43′28.85″ W.)
SAILN, OA | WP | (Lat. 40°15′15.92″ N., long. 73°27′01.93″ W.)
Calverton, NY (CCC) | VOR/DME | (Lat. 40°55′46.63″ N., long. 72°47′55.89″ W.)
NTMEG, CT | WP | (Lat. 41°16′30.75″ N., long. 72°28′52.08″ W.)
VENTE, MA | WP | (Lat. 42°08′24.33″ N., long. 71°53′38.08″ W.)
MANCH, NH | WP | (Lat. 42°52′12.03″ N., long. 71°22′06.54″ W.)
KYLOH, NH | WP | (Lat. 43°03′53.11″ N., long. 71°13′45.49″ W.)
SERPA, ME | FIX | (Lat. 43°50′23.48″ N., long. 70°39′56.87″ W.)
ANSYN, ME | FIX | (Lat. 44°44′46.04″ N., long. 70°00′09.03″ W.)
QUBIS, Canada | WP | (Lat. 47°32′00.15″ N., long. 67°45′58.09″ W.)
Excluding the airspace in Canada.
Q-167 YAZUU, OA to SSOXS, MA [New]
YAZUU, OA | FIX | (Lat. 39°24′44.82″ N., long. 74°01′01.55″ W.)
TOPRR, OA | WP | (Lat. 39°50′49.13″ N., long. 73°32′12.02″ W.)
EMJAY, OA | FIX | (Lat. 40°05′34.89″ N., long. 73°15′42.31″ W.)
RIFLE, NY | FIX | (Lat. 40°41′24.18″ N., long. 72°34′54.89″ W.)
ORCHA, NY | WP | (Lat. 40°55′08.37″ N., long. 72°19′00.15″ W.)
ALBOW, NY | WP | (Lat. 41°02′04.04″ N., long. 71°58′30.69″ W.)
WIKKD, NY | WP | (Lat. 41°08′42.80″ N., long. 71°45′27.74″ W.)
NESTT, RI | WP | (Lat. 41°21′35.84″ N., long. 71°20′05.38″ W.)
BUZRD, MA | WP | (Lat. 41°32′45.88″ N., long. 70°57′50.69″ W.)
SSOXS, MA | FIX | (Lat. 41°50′12.62″ N., long. 70°44′46.26″ W.)
Q-220 RIFLE, NY to LARIE, MA [New]
RIFLE, NY | FIX | (Lat. 40°41′24.18″ N., long. 72°34′54.89″ W.)
ORCHA, NY | WP | (Lat. 40°55′08.37″ N., long. 72°19′00.15″ W.)
ALBOW, NY | WP | (Lat. 41°02′04.04″ N., long. 71°58′30.69″ W.)
Sandy Point, RI (SEY) | VOR/DME | (Lat. 41°10′02.77″ N., long. 71°34′33.91″ W.)
SKOWL, RI | WP | (Lat. 41°15′47.18″ N., long. 71°16′44.35″ W.)
JAWZZ, MA | WP | (Lat. 41°24′08.08″ N., long. 70°50′33.25″ W.)
LARIE, MA | WP | (Lat. 41°49′23.46″ N., long. 69°58′41.96″ W.)
Q-411 Robbinsville, NJ (RBV) to FOXWD, CT [New]
Robbinsville, NJ (RBV) | VORTAC | (Lat. 40°12′08.65″ N., long. 74°29′42.09″ W.)
LAURN, NY | WP | (Lat. 40°33′00.81″ N., long. 74°07′07.15″ W.)
LLUND, NY | FIX | (Lat. 40°51′45.04″ N., long. 73°46′57.30″ W.)
BAYYS, CT | FIX | (Lat. 41°17′21.27″ N., long. 72°58′16.73″ W,)
FOXWD, CT | WP | (Lat. 41°48′21.66″ N., long. 71°48′07.03″ W.)
Q-419 Robbinsville, NJ (RBV) to Deer Park, NY (DPK) [New]
Robbinsville, NJ (RBV) | VORTAC | (Lat. 40°12′08.65″ N., long. 74°29′42.09″ W.)
LAURN, NY | WP | (Lat. 40°33′00.81″ N., long. 74°07′07.15″ W.)
Kennedy, NY (JFK) | VOR/DME | (Lat. 40°37′58.40″ N., long. 73°46′17.00″ W.)
Deer Park, NY (DPK) | VOR/DME | (Lat. 40°47′30.30″ N., long. 73°18′13.17″ W.)
Q-430 COPES, PA to Nantucket, MA (ACK) [New]
COPES, PA | FIX | (Lat. 40°07′50.58″ N., long. 75°22′36.37″ W.)
Robbinsville, NJ (RBV) | VORTAC | (Lat. 40°12′08.65″ N., long. 74°29′42.09″ W.)
MYRCA, NJ | WP | (Lat. 40°20′42.97″ N., long. 73°56′58.07″ W.)
CREEL, NY | FIX | (Lat. 40°26′50.51″ N., long. 73°33′10.68″ W.)
RIFLE, NY | FIX | (Lat. 40°41′24.18″ N., long. 72°34′54.89″ W.)
KYSKY, NY | FIX | (Lat. 40°46′52.75″ N., long. 72°12′21.45″ W.)
LIBBE, NY | FIX | (Lat. 41°00′15.86″ N., long. 71°21′20.34″ W.)
FLAPE, MA | FIX | (Lat. 41°03′56.30″ N., long. 71°04′10.55″ W.)
DEEPO, MA | FIX | (Lat. 41°06′53.96″ N., long. 70°50′09.85″ W.)
Nantucket, MA (ACK) | VOR/DME | (Lat. 41°16′54.79″ N., long. 70°01′36.16″ W.)
Q-437 VILLS, NJ to KOSPE, VT [New]
VILLS, NJ | FIX | (Lat. 39°18′03.87″ N., long. 75°06′37.89″ W.)
DITCH, NJ | FIX | (Lat. 39°47′37.86″ N., long. 74°42′59.88″ W.)
LUIGI, NJ | FIX | (Lat. 40°04′09.65″ N., long. 74°26′40.32″ W.)
HNNAH, NJ | FIX | (Lat. 40°28′12.73″ N., long. 74°02′36.62″ W.)
LLUND, NY | FIX | (Lat. 40°51′45.04″ N., long. 73°46′57.30″ W.)
BINGS, CT | WP | (Lat. 42°00′33.26″ N., long. 73°30′01.81″ W.)
KOSPE, VT | FIX | (Lat. 43°14′24.06″ N., long. 73°11′09.84″ W.)
Q-439 BRIGS, NJ to Presque Isle, ME (PQI) [New]
BRIGS, NJ | FIX | (Lat. 39°31′24.72″ N., long. 74°08′19.67″ W.)
DRIFT, NJ | FIX | (Lat. 39°48′53.56″ N., long. 73°40′49.53″ W.)
MANTA, NJ | FIX | (Lat. 39°54′07.01″ N., long. 73°32′31.63″ W.)
PLUME, NJ | FIX | (Lat. 40°07′06.67″ N., long. 73°17′08.03″ W.)
DUNEE, NY | FIX | (Lat. 40°19′24.38″ N., long. 73°02′26.06″ W.)
SARDI, NY | FIX | (Lat. 40°31′26.61″ N., long. 72°47′55.87″ W.)
RIFLE, NY | FIX | (Lat. 40°41′24.18″ N., long. 72°34′54.89″ W.)
FOXWD, CT | WP | (Lat. 41°48′21.66″ N., long. 71°48′07.03″ W.)
BOGRT, MA | WP | (Lat. 42°13′56.08″ N., long. 71°31′07.37″ W.)
BLENO, NH | WP | (Lat. 42°54′55.00″ N., long. 71°04′43.37″ W.)
BEEKN, ME | WP | (Lat. 43°20′51.95″ N., long. 70°44′50.28″ W.)
FRIAR, ME | FIX | (Lat. 44°26′28.93″ N., long. 69°53′04.38″ W.)
Presque Isle, ME (PQI) | VOR/DME | (Lat. 46°46′27.07″ N., long. 68°05′40.37″ W.)
Q-445 BRIGS, NJ to KYSKY, NY [New]
BRIGS, NJ | FIX | (Lat. 39°31′24.72″ N., long. 74°08′19.67″ W.)
SHAUP, NJ | WP | (Lat. 39°44′23.91″ N., long. 73°34′33.84″ W.)
VALCO, NJ | WP | (Lat. 40°05′29.86″ N., long. 73°08′22.91″ W.)
KYSKY, NY | FIX | (Lat. 40°46′52.75″ N., long. 72°12′21.45″ W.)
Q-450 HNNAH, NJ to Deer Park, NY (DPK) [New]
HNNAH, NJ | FIX | (Lat. 40°28′12.73″ N., long. 74°02′36.62″ W.)
Kennedy, NY (JFK) | VOR/DME | (Lat. 40°37′58.40″ N., long. 73°46′17.00″ W.)
Deer Park, NY (DPK) | VOR/DME | (Lat. 40°47′30.30″ N., long. 73°18′13.17″ W.)
Q-479 LEEAH, NJ to PONCT, NY [New]
LEEAH, NJ | FIX | (Lat. 39°15′39.27″ N., long. 74°57′11.01″ W.)
MYRCA, NJ | WP | (Lat. 40°20′42.97″ N., long. 73°56′58.07″ W.)
Kennedy, NY (JFK) | VOR/DME | (Lat. 40°37′58.40″ N., long. 73°46′17.00″ W.)
LLUND, NY | FIX | (Lat. 40°51′45.04″ N., long. 73°46′57.30″ W.)
DUEYS, NY | FIX | (Lat. 41°09′09.46″ N., long. 73°47′48.52″ W.)
GANDE, NY | FIX | (Lat. 41°30′36.66″ N., long. 73°48′52.03″ W.)
PONCT, NY | WP | (Lat. 42°44′48.83″ N., long. 73°48′48.07″ W.)
Q-480 ZANDR, OH to Kennebunk, ME (ENE) [Amended]
ZANDR, OH | FIX | (Lat. 40°00′18.75″ N., long. 81°31′58.35″ W,)
Bellaire, OH (AIR) | VOR/DME | (Lat. 40°01′01.29″ N., long. 80°49′02.02″ W.)
LEJOY, PA | FIX | (Lat. 40°00′12.22″ N., long. 79°24′53.61″ W.)
VINSE, PA | FIX | (Lat. 39°58′16.21″ N., long. 77°57′21.20″ W.)
BEETS, PA | FIX | (Lat. 39°57′20.57″ N., long. 77°26′59.55″ W.)
HOTEE, PA | WP | (Lat. 40°20′36.00″ N., long. 76°29′37.00″ W.)
MIKYG, PA | WP | (Lat. 40°36′06.00″ N., long. 75°49′11.00″ W.)
SPOTZ, PA | WP | (Lat. 40°45′55.00″ N., long. 75°22′59.00″ W.)
CANDR, NJ | FIX | (Lat. 40°58′15.55″ N., long. 74°57′35.38″ W.)
JEFFF, NJ | FIX | (Lat. 41°14′46.38″ N., long. 74°27′43.29″ W.)
Kingston, NY | VOR/DME | (Lat. 41°39′55.62″ N., long. 73°49′20.01″ W.)
LESWL, CT | WP | (Lat. 41°53′31.00″ N., long. 73°19′20.00″ W.)
Barnes, MA (BAF) | VORTAC | (Lat. 42°09′43.05″ N., long. 72°42′58.32″ W.)
KYLOH, NH | WP | (Lat. 43°03′53.11″ N., long. 71°13′45.49″ W.)
BEEKN, ME | WP | (Lat. 43°20′51.95″ N., long. 70°44′50.28″ W.)
Kennebunk, ME (ENE) | VOR/DME | (Lat. 43°25′32.42″ N., long. 70°36′48.69″ W.)

* * * * *

Issued in Washington, DC, on December 20, 2016.
Leslie M. Swann,
Acting Manager, Airspace Policy Group.

[FR Doc. 2016-31911 Filed 1-4-17; 8:45 am]

BILLING CODE 4910-13-P